FEDERAL COMMUNICATIONS COMMISSION

Notice of Public Information Collection(s) being Reviewed by the Federal Communications Commission for Extension Under Delegated Authority

August 13, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments October 20, 2003. If you anticipate that you will be submitting comments, but find it difficult to do so within the period of time allowed by this notice, you should advise the contact listed below as soon as possible.

ADDRESSES: Direct all Paperwork Reduction Act (PRA) comments to Judith B. Herman, Federal Communications Commission, 445 12th Street, SW., Room 1-C804, Washington, DC 20554 or via the internet to Judith-B.Herman@fcc.gov.

FOR FURTHER INFORMATION CONTACT: For additional information or copies of the information collections contact Judy B. Herman at 202-418-0214 or via the internet at Judith-B.Herman@fcc.gov.

SUPPLEMENTARY INFORMATION:

OMB Control No.: 3060-0280.

Title: Section 90.633 (f) and (g), Conventional Systems Loading Requirements (Wide Area Systems).

Form No.: N/A.

Type of Review: Extension of a currently approved collection.

Respondents: Individuals or households, business or other for profit, not-for-profit institutions, and state, local, or tribal government.

Number of Respondents: 15.

Estimated Time Per Response: 1 hour.

Frequency of Response: On occasion reporting requirement.

Total Annual Burden: 10 hours.

Annual Reporting and Recordkeeping Cost Burden: $3,000.

Needs and Uses: 800 and 900 MHz radio systems are normally licensed to cover a confined area of operation. These rule sections, however, provide applicants who need specially configured wide area or ribbon systems the opportunity to request authorization for such systems upon a showing of need. The information collected is used by licensing personnel to determine if such systems should be authorized. Since the frequencies are reused by other licensees, Commission responsibility for maintaining spectrum efficiency necessitates this determination.

OMB Control No.: 3060-0949.

Title: Interstate Telephone Service Provider Worksheet.

Form No.: FCC Form 159-W.

Type of Review: Extension of a currently approved collection.

Respondents: Individuals or households, business or other for-profit entities, not-for-profit institutions, and state, local, or tribal government.

Number of Respondents: 4,000.

Estimated Time Per Response: .25 hours.

Frequency of Response: Annual and on occasion reporting requirements.

Total Annual Burden: 1,000 hours.

Annual Reporting and Recordkeeping Cost Burden: N/A.

Needs and Uses: Section 9 of the Communications Act of 1934, as amended, authorized the FCC to assess and collect annual regulatory fees to recover costs incurred in carrying out its enforcement, policy and rulemaking activities and its user information services. Common carrier licensees and permittees who provide interstate telephone operator services must pay those fees. These regulatory fees are based upon a percentage of the carrier's interstate revenues. The information is necessary to determine how much each carrier's interstate revenues are available to the carrier by extraction from another OMB collection, Telecommunications Reporting Worksheet, FCC Form 499-A (OMB Control Number 3060-0855). The requested FCC Form 159-W is intended to provide a convenient format for documenting the extracted interstate revenue information (which is already populated on the form) and complete/verify the simple calculation of the fee amount due. The information will be used by the Commission to determine if a party has properly calculated the amount if it's regulatory fee due.

OMB Control No.: 3060-1004.

Title: Wireless Telecommunications Bureau Standardizes Carrier Reporting on Wireless E911 Implementation.

Form No.: N/A.

Type of Review: Extension of a currently approved collection.

Respondents: Business or other for profit, not-for-profit institutions, and state, local, or tribal government.

Number of Respondents: 303 respondents; 1,212 responses.

Estimated Time Per Response: 5 hours.

Frequency of Response: Quarterly, semi-annual and one-time reporting requirements and recordkeeping requirement.

Total Annual Burden: 1,282 hours.

Annual Reporting and Recordkeeping Cost Burden: N/A.

Needs and Uses: The Wireless Telecommunications Bureau (WTB) has taken steps to facilitate more uniform reporting of wireless Enhanced 911 (E911) deployment, in order to foster greater coordination and collaboration among various stakeholders in the implementation process. The Bureau established the format of an Excel spreadsheet to be submitted with the wireless carrier E911 deployment reports required by the Commission. The Commission sought and received emergency OMB approval for this information collection on 08/07/03. The Commission is now seeking the full three year clearance from the OMB.

Federal Communications Commission.
Marlene H. Dortch,
Secretary.

[FR Doc. 03-21371 Filed 8-19-03; 8:45 am]

BILLING CODE 6712-01-P